NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 4, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (Note the new address for requesting schedules using e-mail):

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

(Note the New Address for Requesting Schedules Using E-Mail):

1. Department of Agriculture, Agricultural Marketing Service (N1-136-05-7, 8 items, 5 temporary items). Inputs, ad hoc reports, sampling data, and electronic mail and word processing copies associated with an electronic information system that serves as a central repository for data on pesticide residues found on agricultural products. Proposed for permanent retention are the master file, annual summary reports, and system documentation.

2. Department of Agriculture, Agricultural Marketing Service (N1-136-06-11, 7 items, 4 temporary items). Inputs, ad hoc and customized reports, and electronic mail and word processing copies associated with an electronic information system that serves as a central repository for data on food-borne pathogens found on agricultural products. Proposed for permanent retention are the master file, annual summary reports, and system documentation.

3. Department of Agriculture, Food Safety and Inspection Service (N1-462-04-17, 6 items, 6 temporary items). Inputs, outputs, master files, system documentation, and electronic mail and word processing copies associated with an electronic information system used to alert the public, industry, and others of a meat or poultry product recall.

4. Department of Agriculture, Food Safety and Inspection Service (N1-462-04-18, 6 items, 4 temporary items). Inputs, outputs, and electronic mail and word processing copies associated with an electronic information system that tracks consumer food complaints reported to the agency. Proposed for permanent retention are the master files and system documentation.

5. Department of Agriculture, Food Safety and Inspection Service (N1-462-05-6, 11 items, 11 temporary items). Inputs, outputs, master files, system documentation, and electronic mail and word processing copies associated with an electronic information system that schedules compliance inspections and stores test results and other related data for statistically-selected samples of imported meat and poultry products.

6. Department of Homeland Security, U.S. Coast Guard (N1-26-05-3, 6 items, 6 temporary items). Cutter training records, including unit training plans, unit copies of individual training records, and documentation and evaluations of routine safety and readiness drills and exercises. Also included are electronic copies of records created using electronic mail and word processing.

7. Department of Homeland Security, U.S. Coast Guard (N1-26-05-22, 14 items, 14 temporary items). Health and medical records, including x-rays, reports, logs, and forms relating to the administration of medical duties and the treatment of patients. Also included are electronic copies of records created using electronic mail and word processing. This schedule authorizes the agency to apply the proposed disposition instructions to any recordkeeping medium.

8. Department of Homeland Security, U.S. Coast Guard (N1-26-06-1, 3 items, 3 temporary items). Letters maintained by the Director of the Auxiliary Air Program documenting minor pilot infractions or violations of flight regulations. Also included are electronic copies of records created using electronic mail and word processing.

9. Department of the Interior, Office of the Secretary (N1-48-05-10, 1 item, 1 temporary item). Web versions of agency guidance to bureaus regarding Paperwork Reduction Act information collection requirements. Included are instructions for complying with Office of Management and Budget proposed rulemaking collection requirements.

10. Department of State, Bureau of Educational and Cultural Affairs (N1-59-06-1, 7 items, 4 temporary items). Administrative files documenting routine housekeeping activities and an alumni database of persons who have participated in Bureau-funded educational or cultural programs. Also included are electronic copies of records created using electronic mail and word processing. Proposed for permanent retention are recordkeeping copies of files documenting the foreign policy direction and content of Bureau programming, project and program evaluations, and files relating to projects carried out by overseas posts for Bureau program alumni.

11. Department of State, Bureau of Educational and Cultural Affairs (N1-59-06-2, 7 items, 7 temporary items). Records relating to the review and evaluation of organizations applying for designation as exchange visitor program sponsors. Included are such records as the applications, agreement and denial documentation, program policy files, and reference copies of correspondence. Also included are electronic copies of records created using electronic mail and word processing.

12. Department of Transportation, Bureau of Transportation Statistics (N1-570-04-24, 3 items, 3 temporary items). Schedules of daily activities, including calendars, appointment books, schedules, logs, diaries, and similar records for senior-ranking Bureau officials. Also included are electronic copies of records created using electronic mail and word processing. This schedule authorizes the agency to apply the proposed disposition instructions to any recordkeeping medium.

13. Department of Transportation, Bureau of Transportation Statistics (N1-570-04-29, 8 items, 6 temporary items). Survey development files, survey questionnaires, and draft and non-published analytical materials. Also included are electronic copies of records created using electronic mail and word processing. Proposed for permanent retention are recordkeeping copies of final electronic survey database files and system documentation, including final reports relating to specific surveys. This schedule authorizes the agency to apply the proposed disposition instructions to any recordkeeping medium.

14. Department of Transportation, Federal Motor Carrier Safety Administration (N1-557-05-7, 28 items, 26 temporary items). Records accumulated by the Office of Information Management including, agency-wide correspondence, inputs, outputs, master files, and documentation associated with electronic information systems used to manage and track a variety of forms submitted to the agency, and non-historical motor carrier compliance and publicly available safety data. Also included are electronic copies of records created using electronic mail and word processing, as well as agency Web records containing copies of statistical data relating to public safety programs. Recordkeeping copies of publications produced solely on the web are covered by a previously approved permanent authority. Proposed for permanent retention are historic master data files and related documentation associated with an electronic information system used to collect safety performance and compliance data of motor carriers and hazardous material shippers. This schedule authorizes the agency to apply the proposed disposition instructions to any recordkeeping medium.

15. Department of Veteran Affairs, Veterans Health Administration (N1-15-05-2, 8 items, 8 temporary items). Records of the Patient Representation Program, largely consisting of case files relating to veteran health care services complaints. Included are paper and electronic files containing letters of patient complaints and appreciation, summaries of communications with patients, statistical reports summarizing the adequacy of veteran health care services, and related records. Also included are electronic copies of records created using electronic mail and word processing.

16. Environmental Protection Agency (N1-412-06-6, 19 items, 19 temporary items). Grants and other program support agreements, grant appeal file documents, program management files, pilot project files, general correspondence, contract management records, artwork and camera-ready copy, and trip reports, agendas, and evaluations associated with agency-attended and agency-sponsored conferences and seminars. Also included are electronic copies of records created using electronic mail and word processing. This schedule authorizes the agency to apply the proposed disposition instructions to any recordkeeping medium.

17. National Mediation Board (N1-13-05-1, 17 items, 10 temporary items). Mediation and representation case notes of Board members, routine litigation case files, arbitration case files, and resume or roster files. Also included are electronic copies of records created using electronic mail and word processing. Proposed for permanent retention are recordkeeping copies of Board action files, mediation and representation case files, and significant litigation case files. This schedule authorizes the agency to apply the proposed disposition instructions to any recordkeeping medium.

Dated: March 13, 2006.
Michael J. Kurtz,
Assistant Archivist for Records Services—Washington, DC.

[FR Doc. E6-3943 Filed 3-17-06; 8:45 am]

BILLING CODE 7515-01-P